DEPARTMENT OF JUSTICE

Agency Information Collection Activities; Proposed Collection; Comments Requested; Request To Be Included on the List of Pro Bono Legal Service Providers for Individuals in Immigration Proceedings (Form EOIR-56)

AGENCY: Executive Office for Immigration Review, Department of Justice.

ACTION: 30-day notice.

SUMMARY: The Department of Justice (DOJ), Executive Office for Immigration Review, will submit the following information collection request to the Office of Management and Budget (OMB) for review and approval in accordance with the Paperwork Reduction Act of 1995. This proposed information collection was developed pursuant to public comment received in connection with the Federal Register publication of a Notice of Proposed Rule Making (NPRM), List of Pro Bono Legal Service Providers for Aliens in Immigration Proceedings, allowing for a 60 day comment period. See 79 FR 180, at 55662 (Sept. 17, 2014).

DATES: Comments are encouraged and will be accepted for an additional 30 days until October 29, 2015.

FOR FURTHER INFORMATION CONTACT: If you have additional comments especially on the estimated public burden or associated response time, suggestions, or need a copy of the proposed information collection instrument with instructions or additional information, please contact Jean King, General Counsel, Executive Office for Immigration Review, U.S. Department of Justice, Suite 2600, 5107 Leesburg Pike, Falls Church, Virginia 22041; telephone: (703) 305-0470. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of this information collection:

1. Type of Information Collection: New Information Collection.

2. The Title of the Form/Collection: Request to be included on the List of Pro Bono Legal Service Providers for Individuals in Immigration Proceedings.

3. The agency form number, if any, and the applicable component of the Department sponsoring the collection: Form EOIR-56. The applicable component within the Department of Justice is the Office of Legal Access Programs, Executive Office for Immigration Review.

4. Affected public who will be asked or required to respond, as well as a brief abstract: Legal service providers seeking to be included on the List of Pro Bono Legal Service Providers (“List”), a list of persons who have indicated their availability to represent aliens on a pro bono basis. Abstract: Currently, there is no EOIR form for organizations, private attorneys, and referral services to be included on the List. The NPRM for the List indicated that there was no specific form or information collection instrument associated with this rule. See 79 FR 55669. However, pursuant to public comments suggesting that EOIR look for alternative electronic methods through which to make an initial application and apply for continued participation in the List, EOIR has created a fillable pdf. form (Form EOIR-56) for this purpose. Form EOIR-56 is voluntary, and may be used to elicit, in a uniform manner, all of the required information for EOIR to determine whether an applicant meets the eligibility requirements for inclusion on the List.

5. An estimate of the total number of respondents and the amount of time estimated for an average respondent to respond: It is estimated that 129 respondents will complete the form annually with an average of 30 minutes per response.

6. An estimate of the total public burden (in hours) associated with the collection: There are an estimated 64.5 total annual burden hours associated with this collection.

If additional information is required contact: Jerri Murray, Department Clearance Officer, United States Department of Justice, Justice Management Division, Policy and Planning Staff, Two Constitution Square, 145 N Street NE., 3E.405B, Washington, DC 20530.

Dated: September 24, 2015.
Jerri Murray,
Department Clearance Officer for PRA, U.S. Department of Justice.

[FR Doc. 2015-24626 Filed 9-28-15; 8:45 am]

BILLING CODE 4410-30-P